DEPARTMENT OF COMMERCE

National Oceanic and Atmospheric Administration

[RTID 0648-XE754]

South Atlantic Fishery Management Council (SAFMC); Public Meetings

AGENCY: National Marine Fisheries Service (NMFS), National Oceanic and Atmospheric Administration (NOAA), Commerce.

ACTION: Notice of a public meeting.

SUMMARY: The South Atlantic Fishery Management Council (Council) will host a meeting of the Mackerel Cobia Advisory Panel on March 31 and April 1, 2025.

DATES: The meeting will be held from 1:30 p.m. until 5 p.m. EDT on March 3, 2025, and from 9 a.m. until 5 p.m. on April 1, 2025.

ADDRESSES:

Meeting address: The Workshop will be held at the Crowne Plaza Hotel Charleston; 4831 Tanger Outlet Blvd., North Charleston, SC; phone: (843) 744-4422.

The meeting will also be available via webinar. Registration is required. Webinar registration, an online public comment form, and briefing book materials will be available two weeks prior to the meetings at: https://safmc.net/events/march-2025-mackerel-cobia-ap-meeting/.

Council address: South Atlantic Fishery Management Council, 4055 Faber Place Drive, Suite 201, N Charleston, SC 29405.

FOR FURTHER INFORMATION CONTACT: Christina Wiegand, Fishery Social Scientist, SAFMC; phone 843/302-8437; email: christina.wiegand@safmc.net.

SUPPLEMENTARY INFORMATION: The Mackerel Cobia Advisory Panel (AP) will receive the final report from the Mackerel Port Meetings effort and an update on recent Council discussions relative to possible management action. The AP will discuss and provide recommendations on giant manta ray interactions with the cobia fishery, the For-Hire Electronic Reporting Improvement Amendment, For-Hire Limited Entry Amendment, and review the Council's Research and Monitoring Prioritization Plan. The AP will receive an update on activities conducted by the Citizen Science Program. Finally, AP members will participate in a mock run through of the Council's stakeholder engagement initiative, Lines of Communication.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: March 10, 2025.
Rey Israel Marquez,
Acting Deputy Director, Office of Sustainable Fisheries, National Marine Fisheries Service.

[FR Doc. 2025-04055 Filed 3-13-25; 8:45 am]

BILLING CODE 3510-22-P